DEPARTMENT OF HEALTH AND HUMAN SERVICES

Agency for Toxic Substances and Disease Registry

[30-Day-17-17OB]

Agency Forms Undergoing Paperwork Reduction Act Review

The Agency for Toxic Substances and Disease Registry (ATSDR) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Direct written comments and/or suggestions regarding the items contained in this notice to the Attention: CDC Desk Officer, Office of Management and Budget, Washington, DC 20503 or by fax to (202) 395-5806. Written comments should be received within 30 days of this notice.

Proposed Project

Characterization of Exposure Potential during Activities Conducted on Synthetic Turf with Crumb Rubber Infill—New—Agency for Toxic Substances and Disease Registry (ATSDR).

Background and Brief Description

Currently in the United States, there are more than 12,000 synthetic turf fields in use. While the Synthetic Turf Council has set guidelines for the content of crumb rubber used as infill in synthetic turf fields, manufacturing processes result in differences among types of crumb rubber. Additionally, the chemical composition may vary highly between different processes and source materials and may vary even within granules from the same origin.

In July, 2016, the Agency for Toxic Substances and Disease Registry (ATSDR) and the United States Environmental Protection Agency (US EPA) were granted an emergency Paperwork Reduction Act (PRA) clearance for a research study titled “Collections Related to Synthetic Turf Fields with Crumb Rubber Infill” (OMB Control No. 0923-0054, expiration date 01/31/2017). The research goals for the three activities in the protocol are pilot-level investigations to evaluate and characterize: The chemical composition and use of crumb rubber infill in synthetic turf using a convenience sample of nine tire recycling manufacturing plants and 40 facilities that use synthetic turf fields (Activity 1); The human exposure potential to constituents in crumb rubber infill among a convenience sample of 60 field users (Activity 2); and collection of biological specimens (blood and urine) from 45 participants from Activity 2 (Activity 3).

By December, 2016, ATSDR and US EPA completed Activity 1 which was aimed at characterizing the chemical composition and use of synthetic turf fields with tire crumb rubber infill. The agencies successfully consented and sampled 40 synthetic turf fields with crumb rubber infill across the United States. The activities are reported in the “Status Report on the Federal Research Action Plan on Recycled Tire Crumb Used on Playing Fields and Playgrounds,” which was released on December 30, 2016.

During Activity 1, ATSDR and US EPA obtained permission to return to some of the participating fields to complete the human exposure characterization. Due to the limited time constraints and field activity schedules, ATSDR and US EPA chose to begin Activity 2 data collection and Activity 3 specimen collection in 2017.

The agencies are submitting a new information collection request (ICR) for a one-year PRA clearance to complete Activity 2 and Activity 3, now subtitled “Characterization of Exposure Potential during Activities Conducted on Synthetic Turf with Crumb Rubber Infill.” This will be the first assessment of activities conducted on synthetic turf for the purpose of characterizing potential exposure patterns. The study will include persons who use synthetic turf with crumb rubber infill (e.g., facility users) and who routinely perform activities that would result in a high level of contact to crumb rubber. This will allow for the evaluation of potential high-end exposures to constituents in synthetic turf among this group of users. The respondents will be administered a detailed questionnaire on activity patterns on synthetic turf with crumb rubber infill. This instrument, along with extant videography of persons engaged in activities of interest (see below), will be used to characterize exposure scenarios, including the nature and duration of potential exposures.

The research study will screen a total of 75 participants for eligibility. The sample size for the Activity 2 exposure characterization is 60 respondents. For Activity 3, we will conduct an exposure measurements sub-study among 45 of the 60 respondents, including field environmental sampling, personal air monitoring, dermal sampling, and urine and blood collection. Video data collection of facility user activities will be performed for a further subset of 24 of the Activity 2 respondents. It is likely that some of the collection items will not be analyzed in the current project time frame but will be archived for future analysis.

The total estimated annual time burden requested for this research activity equals 174 hours. There is no cost to the respondents other than their time in the study.

Estimated Annualized Burden Hours
Type of respondents | Form name | Number of respondents | Number of responses per respondent | Average burden per response (in hours)
Adult/Adolescent Facility Users | Eligibility Screening Script | 41 | 1 | 5/60
| Adult and Adolescent Questionnaire | 36 | 1 | 30/60
| Exposure Measurement Form | 27 | 1 | 3
| Phlebotomist Safety Exclusion Questions Form | 27 | 1 | 2/60
Parents/Guardians of Youth/Child Facility Users | Eligibility Screening Script | 34 | 1 | 5/60
| Youth and Child Questionnaire | 24 | 1 | 30/60
| Phlebotomist Safety Exclusion Questions Form | 18 | 1 | 2/60
Youth/Child Facility Users | Exposure Measurement Form | 18 | 1 | 3

Leroy A. Richardson,
Chief, Information Collection Review Office, Office of Scientific Integrity, Office of the Associate Director for Science, Office of the Director, Centers for Disease Control and Prevention.

[FR Doc. 2017-12061 Filed 6-9-17; 8:45 am]

BILLING CODE 4163-18-P